ENVIRONMENTAL PROTECTION AGENCY

40 CFR Parts 52 and 70

[EPA-R07-OAR-2016-0453; FRL 9957-84-Region 7]

State of Iowa; Approval and Promulgation of the Title V Operating Permits Program, the State Implementation Plan, and 112(l) Plan

AGENCY: Environmental Protection Agency (EPA).

ACTION: Final rule; technical amendments.

SUMMARY: The Environmental Protection Agency (EPA) published in the Federal Register on September 9, 2016, approving revisions to the Iowa Title V Operation Permits Program, the State Implementation Plan (SIP), and the 112(l) plan. This amendment makes minor administrative revisions and amends the state effective date.

DATES: This final rule is effective March 28, 2017.

FOR FURTHER INFORMATION CONTACT: Heather Hamilton, Environmental Protection Agency, Air Planning and Development Branch, 11201 Renner Boulevard, Lenexa, Kansas 66219 at 913-551-7039, or by email at Hamilton.heather@epa.gov.

SUPPLEMENTARY INFORMATION: In the September 9, 2016 (81 FR 62387), Federal Register direct final action approving revisions to part 52, chapter 22 of Iowa's SIP, EPA inadvertently omitted a minor administrative phrase from rules 567-22.4, 567-22.5, and 567.22.10. This technical part 52 revision to 567-22.5 is also being applied to Iowa's 112(l) plan.

This technical revision is also making corrections to the Region 7 Technical Support Document (TSD) that supports the September 9, 2016 (81 FR 62387), direct final action. EPA inadvertently omitted minor administrative phrases and a reference from chapter 22 rule 567-22.103. Two revisions to chapter 22 rule 567-22.105(2) are required for clarification. Please see the revised TSD included in the docket.

Finally, we are revising the incorrect state effective dates codified on page 62398 of the September 9, 2016 (81 FR 62387), Federal Register for parts 52 and 70. The correct state effective date is December 16, 2015.

Additional information for this technical amendment can be found in the revised Technical Support Document located in this docket.

List of Subjects

40 CFR Part 52

Environmental protection, Incorporation by reference, Intergovernmental relations, Reporting and recordkeeping requirements.

40 CFR Part 70

Administrative practice and procedure, Air pollution control, Intergovernmental relations, Operating permits, Reporting and recordkeeping requirements.

Dated: March 20, 2017.
Edward H. Chu,
Acting Regional Administrator, Region 7.

Accordingly, 40 CFR parts 52 and 70 is corrected by making the following technical amendments:

PART 52—APPROVAL AND PROMULGATION OF IMPLEMENTATION PLANS

1. The authority citation for part 52 continues to read as follows:

Authority: 42 U.S.C. 7401 et seq.

Subpart Q—Iowa

§ 52.820 [Amended]

2. In § 52.820, the table in paragraph(c) is amended by removing from under the column titled “State effective date” the text “3/15/16” and adding the text “12/16/15” in its place for entries “567-20.1”, “567-22.1”, “567-22.4”, “567-22.5”, “567-22.8”, “567-22.10” “567-31.1” and “567-33.1”, respectively.

PART 70—STATE OPERATING PERMIT PROGRAMS

3. The authority citation for part 70 continues to read as follows:

Authority: 42 U.S.C. 7401 et seq.

4. Appendix A to part 70 is amended by revising paragraph (q) under the heading “Iowa” to read as follows:

Appendix A to Part 70—Approval Status of State and Local Operating Permits Program

* * * * *

Iowa

* * * * *

(q) The Iowa Department of Natural Resources submitted for program approval a revision to rules 567-22.100, 567-22.101, 567-22.103, 567-22.105, 567-22.106, 567-22.108, and added 567.30.4(2) on December 16, 2015. This revision to the Iowa program is approved effective on November 8, 2016.

* * * * *

[FR Doc. 2017-06008 Filed 3-27-17; 8:45 am]

BILLING CODE 6560-50-P